DEPARTMENT OF ENERGY

Federal Energy Regulatory Commission

Combined Notice of Filings #1

January 25, 2008.

Take notice that the Commission received the following exempt wholesale generator filings:

Docket Numbers: EG08-25-000.

Applicants: Buffalo Gap Wind Farm 3, LLC.

Description: Notice of Self-Certification as an Exempt Wholesale Generator of Buffalo Gap Wind Farm 3, LLC.

Filed Date: 12/20/2007.

Accession Number: 20071220-5003.

Comment Date: 5 p.m. Eastern Time on Friday, February 1, 2008.

Take notice that the Commission received the following electric rate filings:

Docket Numbers: ER02-2458-011.

Applicants: Wolverine Power Supply Cooperative, Inc.,Midwest Independent Transmission System.

Description: Errata to Refund Report in Midwest Independent Transmission System Operator, Inc.

Filed Date: 01/17/2008.

Accession Number: 20080117-5009.

Comment Date: 5 p.m. Eastern Time on Thursday, February 7, 2008.

Docket Numbers: ER03-534-006.

Applicants: Ingenco Wholesale Power, LLC.

Description: Notice of Non-Material Change in Status of Ingenco Wholesale Power, LLC.

Filed Date: 01/18/2008.

Accession Number: 20080118-5036.

Comment Date: 5 p.m. Eastern Time on Friday, February 8, 2008.

Docket Numbers: ER05-6-101; EL04-135-104; EL02-111-121; EL03-212-117.

Applicants: Midwest Independent Transmission System.

Description: Electric Refund Report (Compliance Only) of PJM Interconnection, L.L.C.

Filed Date: 01/14/2008.

Accession Number: 20080114-5121.

Comment Date: 5 p.m. Eastern Time on Monday, February 4, 2008.

Docket Numbers: ER05-131-005; ER05-639-003; ER07-528-002; ER06-1446-003.

Applicants: Erie Boulevard Hydropower, LP; Brookfield Power Piney & Deep Creek LLC; Brookfield Energy Marketing U.S. LLC; Hawks Nest Hydro LLC.

Description: Erie Boulevard Hydropower, LP et al. submit a Notice of Change in Status.

Filed Date: 01/18/2008.

Accession Number: 20080123-0015.

Comment Date: 5 p.m. Eastern Time on Friday, February 8, 2008.

Docket Numbers: ER05-283-009; ER05-1232-0080.

Applicants: JPMorgan Chase Bank, N.A.; JP Morgan Ventures Energy Corporation0.

Description: Notice of Non-Material Change in Status of JPMorgan Chase Bank, N.A., et al.

Filed Date: 01/16/2008.

Accession Number: 20080116-5040.

Comment Date: 5 p.m. Eastern Time on Wednesday, February 6, 2008.

Docket Numbers: ER06-19-003; ER98-4512-005; ER06-761-002.

Applicants: NewPage Energy Services, LLC; Consolidated Water Power Company; Rumford Paper Company.

Description: Consolidated Water Power Co. et al. submit a Notice of Change in Status.

Filed Date: 01/22/2008.

Accession Number: 20080124-0158.

Comment Date: 5 p.m. Eastern Time on Tuesday, February 12, 2008.

Docket Numbers: ER06-864-008; ER00-2885-016; ER01-2765-015; ER02-2102-015; ER03-1283-010.

Applicants: Bear Energy LP; Cedar Brakes I, L.L.C.; Cedar Brakes II, L.L.C.; Utility Contract Funding, L.L.C.; Vineland Energy LLC.

Description: Bear Energy LP et al. submit Substitute First Revised Sheet 1 et al. to its FERC Electric Rate Schedule FERC No. 1.

Filed Date: 01/16/2008.

Accession Number: 20080118-0202.

Comment Date: 5 p.m. Eastern Time on Wednesday, February 6, 2008.

Docket Numbers: ER07-809-003; ER07-809-005.

Applicants: Florida Power Corporation.

Description: Status Report of Seminole Electric Cooperative, Inc. and Jan 22nd Supplement Motion to withdraw Attach. A.

Filed Date: 01/14/2008.

Accession Number: 20080114-5085.

Comment Date: 5 p.m. Eastern Time on Monday, February 4, 2008.

Docket Numbers: ER07-1096-005.

Applicants: Niagara Mohawk Power Corporation.

Description: Niagara Mohawk Power Co. submits an addendum to the 1/3/08 filing of a Refund Report pursuant to the 11/19/07 Letter Order.

Filed Date: 01/18/2008.

Accession Number: 20080123-0013.

Comment Date: 5 p.m. Eastern Time on Friday, February 8, 2008.

Docket Numbers: ER07-1105-003.

Applicants: Cedar Creek Wind Energy, LLC.

Description: Cedar Creek Wind Energy, LLC submits an amendment to its Rate Schedule FERC No. 1.

Filed Date: 01/22/2008.

Accession Number: 20080124-0159.

Comment Date: 5 p.m. Eastern Time on Tuesday, February 12, 2008.

Docket Numbers: ER07-1415-001.

Applicants: Xcel Energy Services Inc.

Description: NSP Companies submit a compliance filing pursuant with the Commission's 12/21/07 Order.

Filed Date: 01/22/2008.

Accession Number: 20080124-0160.

Comment Date: 5 p.m. Eastern Time on Tuesday, February 12, 2008.

Docket Numbers: ER07-887-002; EC07-89-000.

Applicants: ITC Holdings Corporation.

Description: ITC Midwest, LLC submits revisions to the Midwest ISO Open Access Transmission and Energy Markets Tariff, FERC Electric Tariff, Third Revised Volume 1 .

Filed Date: 01/22/2008.

Accession Number: 20080124-0161.

Comment Date: 5 p.m. Eastern Time on Tuesday, February 12, 2008.

Docket Numbers: ER08-25-002; ER08-26-002.

Applicants: Ocean State Power; Ocean State Power II.

Description: Ocean State Power and Ocean State Power II submit revised tariff sheets in compliance with a 12/18/07 Order.

Filed Date: 01/17/2008.

Accession Number: 20080122-0226.

Comment Date: 5 p.m. Eastern Time on Thursday, February 7, 2008.

Docket Numbers: ER08-49-002.

Applicants: Michigan Electric Transmission Co., LLC.

Description: Michigan Electric Transmission Co. LLC submits a revised Distribution-Transmission Interconnection Agreement in compliance with Order 614.

Filed Date: 01/22/2008.

Accession Number: 20080124-0165.

Comment Date: 5 p.m. Eastern Time on Tuesday, February 12, 2008.

Docket Numbers: ER08-54-001.

Applicants: ISO New England Inc.

Description: Service Providers submits revisions to Schedule 20A of the ISO New England Inc's OATT in compliance with FERC's Order 890.

Filed Date: 01/17/2008.

Accession Number: 20080122-0217.

Comment Date: 5 p.m. Eastern Time on Thursday, February 7, 2008.

Docket Numbers: ER08-92-002.

Applicants: Virginia Electric and Power Company.

Description: Virginia Electric and Power Company submits a supplemental response to FERC's 12/19/07 Deficiency Letter.

Filed Date: 01/18/2008.

Accession Number: 20080123-0017.

Comment Date: 5 p.m. Eastern Time on Thursday, January 31, 2008.

Docket Numbers: ER08-109-001.

Applicants: Midwest Independent Transmission System Operator, Inc.

Description: Midwest Independent Transmission System Operator, Inc. submits proposed revisions to its OATT and Energy Markets Tariff.

Filed Date: 01/22/2008.

Accession Number: 20080124-0162.

Comment Date: 5 p.m. Eastern Time on Tuesday, February 12, 2008.

Docket Numbers: ER08-140-002.

Applicants: California Independent System Operator Corporation.

Description: California Independent System Operator Corp. submits revisions to the CAISO Tariff and the Market Redesign and Technology Upgrade Tariff in compliance with FERC's 12/21/07 Order.

Filed Date: 01/18/2008.

Accession Number: 20080123-0014.

Comment Date: 5 p.m. Eastern Time on Friday, February 8, 2008.

Docket Numbers: ER08-187-002.

Applicants: The United Illuminating Company.

Description: The United Illuminating Co. submits substitute tariff sheet for Schedule 11 that modifies the terminology used to drive on-peak and off-peak pricing for non-firm point-to-point transmission service.

Filed Date: 01/22/2008.

Accession Number: 20080124-0163.

Comment Date: 5 p.m. Eastern Time on Thursday, January 31, 2008.

Docket Numbers: ER08-259-001; ER08-260-001.

Applicants: Duquesne Light Company; Duquesne Power, LLC; Duquesne Keystone LLC; Duquesne Conemaugh LLC.

Description: Duquesne Light Co et al submit Sub First Revised Sheet 1 et al. to FERC Electric Rate Schedule 1.

Filed Date: 01/16/2008.

Accession Number: 20080118-0048.

Comment Date: 5 p.m. Eastern Time on Wednesday, February 6, 2008.

Docket Numbers: ER08-303-001.

Applicants: Williams Gas Marketing, Inc.

Description: Williams Gas Marketing Inc. submits an amended market-based rate tariff replacing the tariffs submitted in the proceedings on 12/5 and 12/11/07.

Filed Date: 01/15/2008.

Accession Number: 20080117-0037.

Comment Date: 5 p.m. Eastern Time on Tuesday, February 5, 2008.

Docket Numbers: ER08-444-001; ER98-1992-004; ER06-1143-002.

Applicants: NSTAR Electric Company; Medical Area Total Energy Plant, Inc; MATEP LLC.

Description: NSTAR Electric Co. et al. submit the three-year market-based rate update pursuant to Order 697 and 697-A. and Jan 15th correction to tariff sheets.

Filed Date: 01/14/2008.

Accession Number: 20080122-0223.

Comment Date: 5 p.m. Eastern Time on Friday, March 14, 2008.

Docket Numbers: ER08-447-000; ER08-448-000.

Applicants: PSEG Fossil LLC.

Description: PSEG Energy Resources & Trade LLC et al submits updated market power analysis and revised market-based rates tariff in compliance with Order 69 and the initial application for market-based rates etc.

Filed Date: 01/14/2008.

Accession Number: 20080117-0041.

Comment Date: 5 p.m. Eastern Time on Monday, February 4, 2008.

Docket Numbers: ER08-454-000.

Applicants: ISO New England Inc.

Description: ISO New England Inc. and the Connecticut Light and Power Co et al. submit the Original Service Agreement under Schedule 22.

Filed Date: 01/18/2008.

Accession Number: 20080122-0340.

Comment Date: 5 p.m. Eastern Time on Friday, February 8, 2008.

Docket Numbers: ER08-455-000.

Applicants: PJM Interconnection, L.L.C.

Description: PJM Interconnection, LLC submits a change to the default allocation provisions of the PJM Operating Agreement.

Filed Date: 01/18/2008

Accession Number: 20080122-0229

Comment Date: 5 p.m. Eastern Time on Friday, February 8, 2008

Docket Numbers: ER08-456-000.

Applicants: Public Service Company of New Mexico.

Description: Public Service Company of New Mexico submits a long-term firm point-to-point transmission service agreement with Cargill Power Markets, LLC.

Filed Date: 01/18/2008.

Accession Number: 20080122-0230.

Comment Date: 5 p.m. Eastern Time on Friday, February 8, 2008.

Docket Numbers: ER08-457-000.

Applicants: ColumbiaGrid.

Description: Avista Corp and Puget Sound Energy, Inc submits Amendments to the Planning and Expansion Functional Agreement.

Filed Date: 01/18/2008.

Accession Number: 20080122-0231.

Comment Date: 5 p.m. Eastern Time on Friday, February 8, 2008.

Docket Numbers: ER08-458-000.

Applicants: Florida Power Corporation.

Description: Florida Power Corp. submits the Amended 1990 Interconnection Agreement, First Revised Rate Schedule 129 with Seminole Electric Coop, Inc.

Filed Date: 01/22/2008

Accession Number: 20080124-0145

Comment Date: 5 p.m. Eastern Time on Tuesday, February 12, 2008

Docket Numbers: ER08-459-000.

Applicants: Midwest Independent Transmission System Operator, Inc.

Description: Midwest Independent Transmission System Operator, Inc. submits a Transmission to Transmission Interconnection Agreement with Hoosier Energy Rural Electric Coop, Inc.

Filed Date: 01/22/2008.

Accession Number: 20080124-0146.

Comment Date: 5 p.m. Eastern Time on Tuesday, February 12, 2008.

Docket Numbers: ER08-460-000.

Applicants: Entergy Gulf States Louisiana, L.L.C.; Entergy Texas, Inc.

Description: Entergy Gulf States Louisiana, LLC and Entergy Texas, Inc. submit a Notice of Succession.

Filed Date: 01/22/2008.

Accession Number: 20080124-0147.

Comment Date: 5 p.m. Eastern Time on Tuesday, February 12, 2008.

Docket Numbers: ER08-461-000.

Applicants: Wisconsin Public Service Corporation.

Description: Wisconsin Public Service Corp. and Minnesota Power submit the Balancing Area Operations Coordination Agreement designated as Rate Schedule 181.

Filed Date: 01/22/2008.

Accession Number: 20080124-0148.

Comment Date: 5 p.m. Eastern Time on Tuesday, February 12, 2008.

Docket Numbers: ER08-462-000.

Applicants: Zeeland Power Company, LLC.

Description: Consumers Energy Co. submits Notice of Cancellation of FERC Electric Tariff, Original Volume 1.

Filed Date: 01/22/2008.

Accession Number: 20080124-0149.

Comment Date: 5 p.m. Eastern Time on Tuesday, February 12, 2008.

Docket Numbers: ER08-463-000.

Applicants: American Electric Power Service Corporation.

Description: Southwestern Electric Power Company submits a proposed Restated and Amended Flint Creek Power Plant Power Coordination, Interchange and Transmission Service Agreement with Arkansas Electric Cooperative Corp.

Filed Date: 01/22/2008.

Accession Number: 20080124-0150.

Comment Date: 5 p.m. Eastern Time on Tuesday, February 12, 2008.

Docket Numbers: ER08-464-000.

Applicants: MidAmerican Energy Company.

Description: MidAmerican Energy Company submits an Engineering and Procurement Agreement with Iberdrola Renewable Energies USA, Ltd.

Filed Date: 01/22/2008.

Accession Number: 20080124-0151.

Comment Date: 5 p.m. Eastern Time on Tuesday, February 12, 2008.

Docket Numbers: ER08-465-000.

Applicants: Consumers Energy Company.

Description: Consumers Energy Company submits Notice of Cancellation of Service Agreement filed by Edison Sault Electric Company submitted on 12/14/07 re the executed First Revised Service Agreement.

Filed Date: 01/22/2008.

Accession Number: 20080124-0152.

Comment Date: 5 p.m. Eastern Time on Tuesday, February 12, 2008.

Docket Numbers: ER08-466-000.

Applicants: American Electric Power Service Corporation.

Description: AEP Texas Central Company submits an executed Interconnection Agreement with Electric Transmission Texas, LLC.

Filed Date: 01/22/2008.

Accession Number: 20080124-0153.

Comment Date: 5 p.m. Eastern Time on Tuesday, February 12, 2008.

Docket Numbers: ER08-467-000.

Applicants: Consumers Energy Company.

Description: Consumers Energy submits its Notice of Succession filing package.

Filed Date: 01/22/2008.

Accession Number: 20080124-0154.

Comment Date: 5 p.m. Eastern Time on Tuesday, February 12, 2008.

Docket Numbers: ER08-468-000.

Applicants: Southern California Edison Company.

Description: Southern California Edison Co. submits the DPT 1 Project Letter Agreement for Proponent's Environmental Assessment Work.

Filed Date: 01/22/2008.

Accession Number: 20080124-0156.

Comment Date: 5 p.m. Eastern Time on Tuesday, February 12, 2008.

Docket Numbers: ER08-469-000.

Applicants: Terra-Gen VG Wind, LLC.

Description: Terra-Gen VG Wind, LLC submits Notice of Succession to reflect a name change, Rate Schedule FERC 1, Original Sheet 1-64.

Filed Date: 01/22/2008.

Accession Number: 20080124-0155.

Comment Date: 5 p.m. Eastern Time on Tuesday, February 12, 2008.

Docket Numbers: ER08-470-000.

Applicants: Terra-Gen 251 Wind, LLC.

Description: Terra-Gen 251 Wind, LLC submits Notice of Succession reflecting the adoption of Rate Schedule FERC 1, First Revised Sheet 1-91.

Filed Date: 01/22/2008.

Accession Number: 20080124-0167.

Comment Date: 5 p.m. Eastern Time on Tuesday, February 12, 2008.

Docket Numbers: ER96-1085-011.

Applicants: South Carolina Electric & Gas Company.

Description: South Carolina Electric & Gas Co. submits revised pages of its Negotiated Market Sales Tariff, Fifth Revised Volume 2.

Filed Date: 01/22/2008.

Accession Number: 20080124-0157.

Comment Date: 5 p.m. Eastern Time on Tuesday, February 12, 2008.

Docket Numbers: ER96-2585-009; ER98-6-013; ER99-2387-006; ER02-1470-006; ER02-1573-006; ER05-1249-006; EC06-125-000.

Applicants: Niagara Mohawk Power Corporation; New England Power Company; KeySpan-Ravenswood, Inc; KeySpan-Glenwood Energy Center, LLC; KeySpan-Port Jefferson Energy Center, LLC; Granite State Electric Company, The Narragansett Electric Company; National Grid plc and KeySpan Corporation.

Description: National Grid USA submits Original Sheet 1 et al. to FERC Electric Tariff, Sixth Revised Volume 1 to comply with the Commission's 12/20/07 Order and Order 697.

Filed Date: 01/22/2008.

Accession Number: 20080124-0164.

Comment Date: 5 p.m. Eastern Time on Monday, March 24, 2008.

Docket Numbers: ER97-886-010.

Applicants: Brooklyn Navy Yard Cogeneration Partners.

Description: Application of Brooklyn Navy Yard Cogeneration Partners for Determination of Category 1 Status Under Order No. 697.

Filed Date: 01/14/2008.

Accession Number: 20080114-5100.

Comment Date: 5 p.m. Eastern Time on Friday, March 14, 2008.

Docket Numbers: ER99-1005-000; ER96-3107-000; ER03-1079-000.

Applicants: Kansas City Power & Light Company; Strategic Energy, LLC: Aquila, Inc.

Description: Kansas City Power & Light Co et al. submit modification to certain commitments adopted in February 2007 pursuant to Order 697.

Filed Date: 01/16/2008.

Accession Number: 20080118-0210.

Comment Date: 5 p.m. Eastern Time on Monday, March 17, 2008.

Docket Numbers: ER99-3151-008; ER97-837-007; ER03-327-002.

Applicants: PSEG Energy Resources & Trade LLC; Public Service Electric and Gas Company; PSEG Power Connecticut LLC.

Description: PSEG Energy Resources & Trade LLC et al submit updated market power analysis and revised market-based rates tariff in compliance with Order 69 .

Filed Date: 01/14/2008.

Accession Number: 20080117-0041.

Comment Date: 5 p.m. Eastern Time on Friday, March 14, 2008.

Docket Numbers: PH08-15-000.

Applicants: Pacolet Milliken Enterprises, Inc.

Description: FERC Form 65 B Waiver Notification of Pacolet Milliken Enterprises, Inc. under PH08-15.

Filed Date: 01/02/2008.

Accession Number: 20080102-5023.

Comment Date: 5 p.m. Eastern Time on Friday, February 15, 2008.

Take notice that the Commission received the following electric securities filings:

Docket Numbers: ES08-9-001.

Applicants: Bicent (California) Malburg LLC.

Description: Bicent (California) Malburg LLC clarifies and supplement its application for approval under section 204 of the F PA..

Filed Date: 01/16/2008.

Accession Number: 20080118-0199.

Comment Date: 5 p.m. Eastern Time on Monday, January 28, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-1848 Filed 1-31-08; 8:45 am]

BILLING CODE 6717-01-P